ENVIRONMENTAL PROTECTION AGENCY

[ER-FRL-9002-3]

Environmental Impacts Statements; Notice of Availability

Responsible Agency: Office of Federal Activities, General Information (202) 564-7146 or http://www.epa.gov/compliance/nepa/.

Weekly receipt of Environmental Impact Statements

Filed 03/19/2012 Through 03/23/2012

Pursuant to 40 CFR 1506.9.

Notice

Section 309(a) of the Clean Air Act requires that EPA make public its comments on EISs issued by other Federal agencies. EPA's comment letters on EISs are available at: http://www.epa.gov/compliance/nepa/eisdata.html.

EIS No. 20120080, Revised Final EIS, USACE, FL, Central and Southern Florida Project, Broward County Water Preserve Areas, Updates Resulting from Policy Changes that occurred since 2007 Civil Works Board Approval, South Florida Water Management District (SFWMD), Comprehensive Everglades Restoration Plan, (CERP), Broward County, FL, Review Period Ends: 04/30/2012, Contact: Angela E. Dunn 904-232-2108.

EIS No. 20120081, Draft EIS, USFWS, AK, Izembek National Wildlife Refuge Land Exchange/Road Corridor, Proposed Land Exchange for the Purpose of Construction of a Road between Communities of King Cove and Cold Bay, USACE Section 10 and 404 Permits, AK, Comment Period Ends: 05/18/2012, Contact: Stephanie Brady 907-786-3357.

EIS No. 20120082, Final EIS, USFS, OR, Snow Basin Vegetation Management Project, Proposal to Implementing Commercial Harvest of Timber, Post Harvest Non-commercial Thinning, Whitman Ranger District, Wallowa-Whitman Forest, Baker County, OR, Review Period Ends: 04/30/2012, Contact: Dea Nelson 541-523-6391.

EIS No. 20120083, Final Supplement, BLM, NV, Upper Las Vegas Wash Conservation Transfer Area (CTA), Propose to Establish a Final Boundary, Implementation, Clark County, NV, Review Period Ends: 04/30/2012, Contact: Gayle Marrs-Smith 702-515-5156.

EIS No. 20120084, Final EIS, USFS, FL, City of Tallahassee Southwestern Transmission Line Project, Proposes to Construct, Operate and Maintain a New Overhead 230-kilovolt (kV), Electric Transmission Line, Special-Use-Permit (SUP), Apalachicola National Forest (ANF), Leon County, FL, Review Period Ends: 04/30/2012, Contact: Harold Shenk 850-926-3561.

EIS No. 20120085, Final EIS, USN, WA, Trident Support Facilities Explosives Handling Wharf (EHW-2), New Information, Construction and Operating, Naval Base Kitsap Bangor, Silverdale, WA, Review Period Ends: 04/30/2012, Contact: Christine Stevenson 360-396-0080.

EIS No. 20120086, Draft EIS, DOE, CO, Granby Pumping Plant Switchyard—Windy Gap Substation Transmission Line Rebuild, To Replace Existing Transmission Line with Double Circuit Transmission, Grand County, CO, Comment Period Ends: 05/29/2012, Contact: Jim Hartman 720-962-7255.

EIS No. 20120087, Draft EIS, USFS, OR, Eden Ridge Timber Sales, Implementation, Powers Ranger District, Rogue River-Siskiyou National Forest, Coos County, OR, Comment Period Ends: 05/14/2012, Contact: Wesley Crum 541-439-6200.

EIS No. 20120088, Second Draft EIS (Tiering), FHWA, IL, TIER 2—Elgin O'Hare—West Bypass, Extending the Planning Period from 2030 to 2040, Federal Approvals and Funding, Cook and DuPage Counties, IL, Comment Period Ends: 05/14/2012, Contact: Norman Stoner 217-492-4600.

The U.S. Department of Transportation's Federal Highway Administration and the Federal Aviation Administration are Joint Lead agencies for this project.

EIS No. 20120089, Final EIS, USFS, CA, Greys Mountain Ecological Restoration Project, Proposed Forest Management Treatments to Reduce Fire Hazard and Restore Forest Health, Sierra National Forest, Bass Lake Ranger District, Madera and Mariposa Counties, CA, Review Period Ends: 04/30/2012, Contact: Burt Stalter 559-887-2218 ext. 3208.

EIS No. 20120090, Draft EIS, USAF, AK, Modernization and Enhancement of Ranges, Airspace, and Training Areas in the Joint Pacific Alaska Range Complex, AK, Comment Period Ends: 06/07/2012, Contact: Mark Peterson 808-449-1078.

The U.S. Army and the U.S. Air Force are Joint Lead agencies for this project.

EIS No. 20120091, Second Draft Supplement, BLM, AK, National Petroleum Reserve -Alaska (NPR-A) Integrated Activity Plan, To Determine Appropriate Management for BLM-Administrated Lands in the NPR-A, North Slope Borough, AK, Comment Period Ends: 05/29/2012, Contact: Jim Ducker 907-271-3130.

EIS No. 20120092, Final EIS, USACE, LA, Louisiana Coastal Area Barataria Basin Barrier Shoreline Restoration, To Restore the Barrier Shoreline Ecosystem and Significantly Reduce the Loss of Estuarine and Freshwater Wetlands, Caminada Headland in Lafourche and Jefferson Parishes and Shell Islands in Plaquemines Parish, LA, Review Period Ends: 04/30/2012, Contact: Dr. William P. Klein, Jr. 504-862-2540.

Amended Notices

EIS No. 20110440, Revised Draft EIS, USFS, ID, Idaho Panhandle National Forests, Land Management Plan, Revises the 1987 Forest Plan, Implementation, Boundary, Bonner, Kootenai, Benewah, and Shoshone Counties, ID and Pend Oreille County, WA, Comment Period Ends: 05/07/2012, Contact: Mary Farnsworth 208-765-7223. Revision to FR Notice Published 01/13/2012; Extending Comment Period from 04/4/2012 to 05/07/2012.

EIS No. 20110441, Revised Draft EIS, USFS, MT, Kootenai National Forest Land Management Plan, Revises the 1987 Forest Plan, Implementation, Lincoln, Sanders, Flathead Counties, MT and Bonner and Boundary Counties, ID, Comment Period Ends: 04/04/2012, Contact: Paul Bradford 406-293-6211.

Revision to FR Notice Published 01/06/2012; Extending Comment Period from 04/04/2012 to 05/07/2012.

EIS No. 20120028, Draft EIS, USACE, CA, Clearwater Program, To Meet the Wastewater Management Needs of the Joint Outfall System (JOS) Through the Year 2050, Near San Pedro, Section 404 Permit, Los Angeles County, CA, Comment Period Ends: 04/10/2012, Contact: Dr. Aaron O. Allen 805-585-2148.

Revision to FR Notice Published 2/10/2012; Comment Period Ends 04/10/2012.

Dated: March 27, 2012.
Cliff Rader,
Director, NEPA Compliance Division, Office of Federal Activities.

[FR Doc. 2012-7690 Filed 3-29-12; 8:45 am]

BILLING CODE 6560-50-P